DEPARTMENT OF ENERGY

Federal Energy Regulatory Commission

Notice of Declaration of Intention and Soliciting Comments, Protests, and/or Motions To Intervene

March 4, 2004.

Take notice that the following application has been filed with the Commission and is available for public inspection:

a. Application Type: Declaration of intention.

b. Docket No.: DI04-4-000.

c. Date Filed: February 2, 2004, amended March 2, 2004.

d. Applicant: Upland Wings, Inc., Wings Lake, One Wings Lake Drive, Sullivan, MO 63080, telephone (573) 860-3146.

e. Name of Project: Wings Lake Power Station Project.

f. Location: The Wings Lake Power Station Project would be located in Sections 3, 4, 5, 8, 9 of T. 39 N., R. 1 W., 5th Meridian at the former Pea Ridge Iron Ore Company mining site in Washington County, Missouri. The project will not occupy tribal or Federal land.

g. Filed Pursuant to: Section 23(b)(1) of the Federal Power Act, 16 U.S.C. 817(b).

h. Applicant Contact: James C. Kennedy, President, Upland Wings, One Wings Lake Drive, Sullivan, MO 63080, telephone (573) 860-4986, E-mail wings@fidnet.com.

i. FERC Contact: Any questions on this notice should be addressed to Henry Ecton (202) 502-8768, or E-mail address: henry.ecton@ferc.gov.

j. Deadline for Filing Comments and/or Motions: April 5, 2004.

All documents (original and eight copies) should be filed with: Magalie R. Salas, Secretary, Federal Energy Regulatory Commission, 888 First Street, NE., Washington, DC 20426. Comments, protests, and interventions may be filed electronically via the Internet in lieu of paper. Any questions, please contact the Secretary's Office. See 18 CFR 385.2001(a)(1)(iii) and the instructions on the Commission's Web site at http://www.ferc.gov. Please include the docket number (DI04-4-000) on any comments or motions filed.

k. Description of Project: The proposed Wings Lake Power Station Project, a pump storage project, would consist of: (1) An upper and lower reservoir on a former iron ore mine site, with the upper reservoir filled from ground water pumped from the mine; (2) a 700-foot-long, 100-foot-high rock and compacted concrete dam; (3) a turbine/generating unit, with a total rated capacity of 500 MW, located in a mine shaft; and (4) appurtenant facilities. The hydroelectric unit will be tied into the interstate grid through the Crawford Electric Cooperative, Bourbon, MO.

When a Declaration of Intention is filed with the Federal Energy Regulatory Commission, the Federal Power Act requires the Commission to investigate and determine if the interests of interstate or foreign commerce would be affected by the project. The Commission also determines whether or not the project: (1) Would be located on a navigable waterway; (2) would occupy or affect public lands or reservations of the United States; (3) would utilize surplus water or water power from a government dam; or (4) if applicable, has involved or would involve any construction subsequent to 1935 that may have increased or would increase the project's head or generating capacity, or have otherwise significantly modified the project's pre-1935 design or operation.

l. Locations of the Application: Copies of this filing are on file with the Commission and are available for public inspection. This filing may be viewed on the Web at http://www.ferc.gov using the “eLibrary” link, select “Docket#” and follow the instructions. For assistance, please contact FERC Online Support at FERCOnlineSupport@ferc.gov or toll-free at (866) 208-3676, or TTY, contact (202) 502-8659.

m. Individuals desiring to be included on the Commission's mailing list should so indicate by writing to the Secretary of the Commission.

n. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

o. Filing and Service of Responsive Documents—Any filings must bear in all capital letters the title “COMMENTS”, “PROTEST”, OR “MOTION TO INTERVENE”, as applicable, and the Docket Number of the particular application to which the filing refers. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E4-510 Filed 3-10-04; 8:45 am]

BILLING CODE 6717-01-P